DEPARTMENT OF AGRICULTURE

Food and Nutrition Service

Agency Information Collection Activities: Proposed Collection; Comment Request—Form FNS-245, Negative QC Review Schedule

AGENCY: Food and Nutrition Service (FNS), USDA.

ACTION: Notice.

SUMMARY: In accordance with the Paperwork Reduction Act of 1995, this notice invites the general public and other public agencies to comment on the proposed collection.

Form FNS-245, is currently used in the Quality Control process for the Supplemental Nutrition Assistance Program. This is a revision of a currently approved collection in the Supplemental Nutrition Assistance Program and concerns the Negative QC Review Schedule.

DATES: Written comments must be received on or before March 17, 2014.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical or other technological collection techniques or other forms of information technology.

Comments may be sent to: Patrick Lucrezio, Chief, Quality Control Branch, Program Accountability and Administration Division, Food and Nutrition Service, U.S. Department of Agriculture, 3101 Park Center Drive, Room 822, Alexandria, VA 22302. You may also download an electronic version of this notice at http://www.fns.usda.gov/fsp/rules/regulations/default.htm and comment via email at SNAPHQ-Web@fns.usda.gov or use the Federal e-Rulemaking Portal. Go to http://www.regulations.gov and follow the online instructions for submitting comments electronically.

All written comments will be open for public inspection at the FNS office located at 3101 Park Center Drive, Room 822, Alexandria, VA 22302, during regular business hours (8:30 a.m. to 5 p.m. Monday through Friday). All responses to this notice will be included in the request for Office of Management and Budget approval. All comments will also become a matter of public record.

FOR FURTHER INFORMATION CONTACT: Requests for additional information, copies or to view a draft version of the information collection form and instructions should be directed to SNAP QC at SNAPHQ-QCIC@fns.usda.gov.

SUPPLEMENTARY INFORMATION: Title: Negative Quality Control Review Schedule.

OMB Number: 0584-0034.

Form Number: FNS-245.

Expiration Date: December 31, 2016.

Type of Request: Revision of a currently approved collection.

Form FNS-245, Negative Case Action Review Schedule:

Abstract: Form FNS-245, Negative Case Action Review Schedule, is designed to collect quality control (QC) data and serve as the data entry form for Negative case action QC reviews in the Supplemental Nutrition Assistance Program (SNAP). New QC procedures for Negative cases (now referred to as Case and Procedural cases) went into effect for the 2012 QC review year. State agencies complete form FNS-245 for each Negative Case in their QC sample. SNAP has determined the form associated with the reporting of these cases needs to be updated to reflect the new name and reorganized in order to not only streamline the data elements being reported, but to also add nine data elements to more effectively and efficiently record what is now being reviewed. By streamlining the form's elements to make it more efficient, the additional elements are not expected to increase the collection's burden on State Agencies using the form. We are also requesting to rename this information collection from “Negative QC Review Schedule” to “Case and Procedural Quality Control Review Schedule”.

The reporting and recordkeeping burden associated with the completion of form FNS-245, has decreased from approximately 177,351 hours to 121,784.1602 hours. The decrease in total burden is largely a result of the decrease in total SNAP Negative case selection from 59,831 cases in FY2010 to 41,085 Case and Procedural cases in FY 2012.

Affected Public: State, Local & Tribal Governments.

Number of Respondents: 53 State Agencies.

Number of Responses per Respondent: 775.1887 Records.

Total Annual Responses: 41,085.

Reporting Time per Response: 2.9406 Hours.

Estimated Annual Reporting Burden: 120,814.5542 Hours.

Number of Record Keepers: 53.

Number of Records per Record Keeper: 775.1887 Records.

Estimated Number of Records to Keep: 41,085 Records.

Recordkeeping Time per Response: .0236 Hours.

Total Estimated Recordkeeping: 969.6060 Hours.

Annual Recordkeeping and Reporting Burden: 121,784.1602 Hours.

Affected public | Instrument | Estimated number of respondents | Number of responses per respondent | Total annual responses | Hours per response | Annual burden hours
Reporting Burden
State agencies | FNS-245, Case and Procedural QC Review Schedule | 53.00 | 775.1887 | 41,085 | 2.9406 | 120,814.5542
Reporting Totals |  | 53.00 |  | 41,085 |  | 120,814.5542
Recordkeeping Burden
State agencies | Maintain Records | 53.00 | 775.1887 | 41,085 | 0.0236 | 969.6060
Total Recordkeeping and Reporting Burden |  | 53.00 |  | 82,170 | 2.9642 | 121,784.1602

Dated: January 9, 2014.
Audrey Rowe,
Administrator, Food and Nutrition Service.

[FR Doc. 2014-00762 Filed 1-15-14; 8:45 am]

BILLING CODE 3410-30-P